DEPARTMENT OF DEFENSE

Department of the Navy

Meeting of the U.S. Naval Academy Board of Visitors; Correction

AGENCY: Department of the Navy, DoD.

ACTION: Notice of partially closed meeting; correction.

SUMMARY: The Department of the Navy published a document in the Federal Register (80 FR 5098) of January 30, 2015, concerning the U.S. Naval Academy Board of Visitors meeting on March 2, 2015 in which the executive session of this meeting will be closed from 11:00 a.m. to 12:00 p.m. The document contained an incorrect approving authority.

FOR FURTHER INFORMATION CONTACT: Lieutenant Commander Eric Madonia, USN, Executive Secretary to the Board of Visitors, Office of the Superintendent, U.S. Naval Academy, Annapolis, MD 21402-5000, 410-293-1503.

Correction: In the Federal Register (80 FR 5098) of January 30, 2015, on page 5098, in the second column, correct the approving authority to read:

1. Accordingly, the DoN/Assistant for Administration has determined in writing that the meeting shall be partially closed to the public because the discussions during the executive session from 11:00 a.m. to 12:00 p.m. will be concerned with matters coming under sections 552b(c) (5), (6), and (7) of title 5, United States Code.

Dated: February 3, 2015.
N.A. Hagerty-Ford,
Commander, Judge Advocate General's Corps, U.S. Navy, Federal Register Liaison Officer.

[FR Doc. 2015-02798 Filed 2-10-15; 8:45 am]

BILLING CODE 3810-FF-P